DEPARTMENT OF THE TREASURY

Agency Information Collection Activities; Submission for OMB Review; Comment Request; Information Sharing Between Government Agencies and Financial Institutions

AGENCY: Departmental Offices, U.S. Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before December 23, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Financial Crimes Enforcement Network (FinCEN)

Title: Information sharing between government agencies and financial institutions.

OMB Control Number: 1506-0049.

Type of Review: Extension without change of a currently approved collection.

Description: The Uniting and Strengthening America by Providing Appropriate Tools Required to Intercept and Obstruct Terrorism Act of 2001 (USA PATRIOT Act) charged the Department of the Treasury (Treasury) with developing regulations to facilitate information sharing among government entities and financial institutions for the purpose of combatting terrorism and money laundering.¹ In 2002, FinCEN published a final rule implementing the authority contained in section 314(a) of the USA PATRIOT Act (the Section 314(a) Rule).² The rule required financial institutions, upon FinCEN's request (a “Section 314(a) Request”), to search their records to determine whether they have maintained an account or conducted a transaction with a specified individual, entity, or organization that a Federal law enforcement agency has certified is suspected, based on credible evidence, of engaging in terrorist activity or money laundering. The rule enables certain foreign law enforcement agencies, state and local law enforcement agencies, and FinCEN itself, on its own behalf and on behalf of appropriate components of Treasury, to initiate Section 314(a) Requests.³ Before processing a request, FinCEN requires the requesting agency to certify that, in the case of money laundering, the matter is significant, and that the requesting agency has been unable to locate the information sought through traditional methods of investigation and analysis. The regulations implementing the rules are found at 31 CFR 1010.520.

¹ Public Law 107-56, 115 Stat. 272 (Oct. 26, 2001).

² FinCEN, Final Rule—Special Information Sharing Procedures to Deter Money Laundering and Terrorist Activity, 67 FR 60579, (Sept. 26, 2002).

³ FinCEN, Final Rule—Expansion of Special Information Sharing Procedures To Deter Money Laundering and Terrorist Activity, 75 FR 6560, (Feb. 10, 2010).

Form: Not applicable.

Affected Public: Businesses or other for profit and non-profit institutions.

Estimated Number of Potential Respondents: 575,873 financial institutions.

Estimated Number of Expected Respondents: 12,726 financial institutions.

Frequency of Response: As required.

Estimated Total Number of Annual Responses: 7,381,080.

Estimated Burden Hours per Respondent: Approximately 44 hours.

Estimated Total Annual Burden Hours: 555,702.

Authority: 44 U.S.C. 3501 et seq.

Spencer W. Clark,
Treasury PRA Clearance Officer.

[FR Doc. 2025-23743 Filed 12-22-25; 8:45 am]

BILLING CODE 4810-02-P